DEPARTMENT OF LABOR

Employment and Training Administration

[TA-W-41,346]

Electronic Data Systems, Camp Hill, Pennsylvania; Notice of Termination of Investigation

Pursuant to section 221 of the Trade Act of 1974, an investigation was initiated on April 15, 2002, in response to a petition filed on behalf of workers at Electronic Data Systems, Camp Hill, Pennsylvania.

There is an existing petition investigation in process for workers of the subject firm (TA-40,916). Consequently further investigation in this case would serve no purpose, and the investigation has been terminated.

Signed in Washington, DC, this 17th day of May, 2002.
Linda G. Poole,
Certifying Officer, Division of Trade Adjustment Assistance.

[FR Doc. 02-13945 Filed 6-3-02; 8:45 am]

BILLING CODE 4510-30-P